DEPARTMENT OF COMMERCE

National Institute of Standards and Technology

[Docket Number 0911121400-0091-02]

Summer Undergraduate Research Program Extension of Due Date for Proposals

AGENCY: National Institute of Standards and Technology (NIST), United States Department of Commerce

ACTION: Notice.

SUMMARY: Due to extreme weather conditions in the Mid-Atlantic United States, NIST is extending the deadline for proposal submission for its Summer Undergraduate Research Fellowship Program competition to 5 p.m. Eastern time, Friday, February 19, 2010, for SURF Gaithersburg, and noon Mountain Time, Friday, February 19, 2010, for SURF Boulder.

DATES: Paper and electronic submissions must be received no later than 5 p.m. Eastern time, Friday, February 19, 2010, for SURF Gaithersburg, and noon Mountain Time, Friday, February 19, 2010, for SURF Boulder.

ADDRESSES: Paper submissions for SURF Gaithersburg must be sent to Ms. Anita Sweigert, Administrative Coordinator, SURF NIST Gaithersburg Programs, National Institute of Standards and Technology, 100 Bureau Drive, Stop 8400, Gaithersburg, MD 20899-8400. Paper applications for SURF Boulder must be sent to Ms. Cynthia Kotary, Administrative Coordinator, SURF NIST Boulder Programs, National Institute of Standards and Technology, 325 Broadway, Mail Stop 104, Boulder, CO 80305-3337. Electronic submissions must be sent as specified in the original program announcement, Summer Undergraduate Research Fellowships (SURF) Gaithersburg and Boulder Programs: Availability of Funds, 74 FR 66291 (Dec. 15, 2009).

FOR FURTHER INFORMATION CONTACT: Program questions for SURF Gaithersburg should be addressed to Ms. Anita Sweigert, Administrative Coordinator, SURF NIST Gaithersburg Programs, National Institute of Standards and Technology, 100 Bureau Drive, Stop 8400, Gaithersburg, MD 20899-8400, Tel: (301) 975-4200, E-mail: anita.sweigert@nist.gov. The SURF NIST Gaithersburg Program Web site is: http://www.surf.nist.gov/surf2.htm. Program questions for SURF Boulder should be addressed to Ms. Cynthia Kotary, Administrative Coordinator, SURF NIST Boulder Programs, National Institute of Standards and Technology, 325 Broadway, Mail Stop 104, Boulder, CO 80305-3337, Tel: (303) 497-3319, E-mail: kotary@boulder.nist.gov; Web site: http://www.nist.gov/surfboulder/. All grants related administration questions concerning this program should be directed to Hope Snowden, NIST Grants and Agreements Management Division at (301) 975-6002 or hope.snowden@nist.gov, or for assistance with using Grants.gov contact support@grants.gov.

SUPPLEMENTARY INFORMATION: On December 15, 2009, the National Institute of Standards and Technology's (NIST) Gaithersburg and Boulder Summer Undergraduate Research Programs (SURF) announced that they were soliciting proposals for financial assistance (74 FR 66219). The due date for submission of all proposals was 5 p.m. Eastern Time, Tuesday, February 16, 2010. Due to extreme weather conditions and associated power outages, Internet outages, and closings of public facilities in the Mid-Atlantic area, including a shut-down of the Federal government and universities, some proposers did not have the opportunity to timely prepare applications. In order to provide all interested parties a fair and reasonable opportunity to submit a proposal, NIST is extending the solicitation period until 5 p.m. Eastern Time, Friday, February 19, 2010, for SURF Gaithersburg, and noon Mountain Time, Friday, February 19, 2010, for SURF Boulder. Electronic and paper proposals received between the original deadline of 5 p.m. Eastern Time February 16, 2010, and 5 p.m. Eastern Time February 19, 2010 for SURF Gaithersburg, or between the original deadline of 5 p.m. Mountain Time February 16, 2010 and noon Mountain Time February 19, 2010 for SURF Boulder, are deemed timely.

All SURF application and competition requirements and information announced in the December 15, 2009 Federal Register notice apply to proposals submitted during the extended time period. The review, selection, and award processing time for SURF remains unchanged.

Executive Order 12372 (Intergovernmental Review of Federal Programs). Proposals under this program are not subject to Executive Order 12372.

Executive Order 13132 (Federalism). This notice does not contain policies with Federalism implications as defined in Executive Order 13132.

Executive Order 12866 (Regulatory Planning and Review). This notice is not a significant regulatory action under Sections 3(f)(3) and 3(f)(4) of Executive Order 12866, as it does not materially alter the budgetary impact of a grant program and does not raise novel policy issues. This notice is not an “economically significant” regulatory action under Section 3(f)(1) of the Executive Order, as it does not have an effect on the economy of $100 million or more in any one year, and it does not have a material adverse effect on the economy, a sector of the economy, productivity, competition, jobs, the environment, public health or safety, or State, local, or tribal governments or communities.

Administrative Procedure Act and Regulatory Flexibility Act. Prior notice and comment are not required under 5 U.S.C. 553, or any other law, for rules relating to public property, loans, grants, benefits or contracts (5 U.S.C. 553(a)). Because prior notice and an opportunity for public comment are not required pursuant to 5 U.S.C. 553 or any other law, the analytical requirements of the Regulatory Flexibility Act (5 U.S.C. 601 et seq.) are inapplicable. Therefore, a regulatory flexibility analysis is not required and has not been prepared.

Dated: February 17, 2010.
Marc G. Stanley,
Acting Deputy Director.

[FR Doc. 2010-3507 Filed 2-22-10; 8:45 am]

BILLING CODE 3510-13-P